DEPARTMENT OF LABOR

Office of Federal Contract Compliance Programs

41 CFR Part 60-20

RIN 1250-AA05

Discrimination on the Basis of Sex; Extension of Comment Period

AGENCY: Office of Federal Contract Compliance Programs, Labor.

ACTION: Notice of proposed rulemaking and extension of the comment period.

SUMMARY: On January 30, 2015, the Office of Federal Contract Compliance Programs (OFCCP) published a notice of proposed rulemaking (NPRM) in the Federal Register. The NPRM (80 FR 5246) proposed regulations setting forth requirements that covered Federal Government contractors and subcontractors, and federally assisted construction contractors and subcontractors, must meet in fulfilling their obligations under Executive Order 11246, as amended. This includes ensuring nondiscrimination in employment on the basis of sex and taking affirmative action to ensure that applicants are employed, and that employees are treated during employment, without regard to their sex.

This document extends the comment period for the proposed rule for 14 days. You do not need to resubmit your comment if you have already commented on the proposed rule. Should you choose to do so, you can submit additional or supplemental comments. OFCCP will consider all comments received from the date of publication of the proposed rule through the close of the extended comment period.

DATES: The comment period for the NPRM published on January 30, 2015 (80 FR 5246), and scheduled to close on March 31, 2015, is extended. Comments must be received on or before April 14, 2015.

ADDRESSES: You may submit comments, identified by RIN 1250-AA05, by any of the following methods:

• Federal eRulemaking Portal: www.regulations.gov. Follow the instructions for submitting comments.

• Fax: (202) 693-1304 (for comments of six pages or fewer).

• Mail: Debra A. Carr, Director, Division of Policy and Program Development, Office of Federal Contract Compliance Programs, Room C-3325, 200 Constitution Avenue NW., Washington, DC 20210.

FOR FURTHER INFORMATION CONTACT: Debra A. Carr, Director, Division of Policy and Program Development, Office of Federal Contract Compliance Programs, Room C-3325, 200 Constitution Avenue NW., Washington, DC 20210. Telephone: (202) 693-0104.

SUPPLEMENTARY INFORMATION: On January 30, 2015, OFCCP published a proposed rule entitled “Discrimination on the Basis of Sex” (80 FR 5246). OFCCP was to receive comments on this NPRM on or before March 31, 2015.

OFCCP, after considering a request to extend the comment period until after the Supreme Court issued an opinion in the then pending case of Young v. United Parcel Service (U.S. No. 12-1226), determined that it is appropriate to provide additional time to review the Court's recent decision and its potential impact on the proposals in the NPRM.

On March 25, 2015, the Supreme Court issued an opinion in Young v. United Parcel Service, 575__ U.S. __ (2015); 2015 WL 1310745 (Mar. 25, 2015). The Young case addressed the issue of an employer's duty to accommodate pregnant employees. OFCCP's NPRM addresses the issue of discrimination based on pregnancy, childbirth, and related medical conditions, and the obligations of Federal contractors and subcontractors to provide workplace accommodations for these conditions. This issue was before the Court in Young.

Extension of Comment Period

OFCCP determined that the public could benefit from additional time to review the Court's decision in Young. Therefore, OFCCP is extending the comment period for the NPRM until April 14, 2015.

Signed in Washington, DC, this 27th day of March 2015.
Debra A. Carr,
Director, Division of Policy and Program Development, Office of Federal Contract Compliance Programs.

[FR Doc. 2015-07490 Filed 3-31-15; 8:45 am]

BILLING CODE 4510-CM-P